DEPARTMENT OF AGRICULTURE

Animal and Plant Health Inspection Service

9 CFR Part 91

[Docket No. 02-127-2]

Ports Designated for Exportation of Livestock; Portland, OR

AGENCY: Animal and Plant Health Inspection Service, USDA.

ACTION: Withdrawal of a direct final rule.

SUMMARY: This document withdraws the direct final rule that notified the public of our intention to amend the “Inspection and Handling of Livestock for Exportation” regulations by designating Portland International Airport in Portland, OR, as a port of embarkation and B Bar C Ranch, in Gervais, OR, and Pony World Farm in Portland, OR, as export inspection facilities for that port. This action is necessary because we received a written adverse comment in response to the direct final rule.

DATES: The direct final rule is withdrawn as of June 25, 2003.

FOR FURTHER INFORMATION CONTACT: Dr. Roger Perkins, Senior Staff Veterinarian, Technical Trade Services, National Center for Import and Export, VS, APHIS, 4700 River Road Unit 39, Riverdale, MD 20737-1231; (301) 734-8364.

SUPPLEMENTARY INFORMATION:

Background

In a direct final rule published in the Federal Register on May 19, 2003 (68 FR 26990-26991, Docket No. 02-127-1), we notified the public of our intention to amend the “Inspection and Handling of Livestock for Exportation” regulations by designating Portland International Airport in Portland, OR, as a port of embarkation and B Bar C Ranch, in Gervais, OR, and Pony World Farm in Portland, OR, as export inspection facilities for that port.

We solicited comments concerning the direct final rule for 30 days ending June 18, 2003. We stated that the effective date of the direct final rule would be 60 days after publication of the direct final rule in the Federal Register, unless we received a written adverse comment or a written notice of intent to submit an adverse comment. We also stated that if we received any written adverse comment or any written notice of intent to submit an adverse comment, we would publish a notice in the Federal Register withdrawing the direct final rule before the scheduled effective date and would publish a proposed rule for public comment.

We received one written adverse comment. Therefore, we are withdrawing the direct final rule and, at a later date, we will publish a proposed rule in the Federal Register.

Authority: 7 U.S.C. 8301-8317; 19 U.S.C. 1644a(c); 21 U.S.C. 136, 136a, and 618; 46 U.S.C. 3901 and 3902; 7 CFR 2.22, 2.80, and 371.4.

Done in Washington, DC, this 19th day of June, 2003.
Bobby R. Acord,
Administrator, Animal and Plant Health Inspection Service.

[FR Doc. 03-16039 Filed 6-24-03; 8:45 am]

BILLING CODE 3410-34-P